NATIONAL SCIENCE FOUNDATION

Agency Information Collection Activities: Comment Request; Convergence Accelerator Evaluation & Monitoring Plan

AGENCY: National Science Foundation.

ACTION: Notice.

SUMMARY: The National Science Foundation (NSF) is announcing plans for a new data collection. In accordance with the requirements of the Paperwork Reduction Act of 1995, we are providing an opportunity for public comment on this action. After obtaining and considering public comment, NSF will prepare the submission requesting Office of Management and Budget (OMB) clearance of this collection for no longer than three years.

DATES: Written comments on this notice must be received within March 14, 2022 to be assured consideration. Comments received after that date will be considered to the extent practicable. Please send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: Generic Clearance for the Convergence Accelerator Evaluation & Monitoring Plan.

OMB Number: 3145-NEW.

Expiration Date of Approval: Not applicable.

Type of Request: New information collection.

Abstract: The information collection will enable the Evaluation and Assessment Capability (EAC) Section within NSF to garner quantitative and qualitative information that will be used to inform programmatic improvements, efficiencies, and enhanced program monitoring for the Convergence Accelerator (CA). This information collection, which entails collecting information from CA applicants and grantees through a series of surveys, interviews, and case studies, is in accordance with the Agency's commitment to improving service delivery as well as the Agency's strategic goal to “advance the capability of the Nation to meet current and future challenges.”

For this effort, four survey instruments have been developed, each of which will include closed-ended and open-ended questions to generate quantitative and qualitative data. For ease of use for our respondent pool, each of the four survey instruments will be programmed into interactive web surveys and distributed to eligible respondents by email. The surveys, which will serve as a census for all applicable CA applicants and/or grantees, will be used to collect baseline measures at the start of the program and vital information on how grantees progress through the program. Follow-up interviews will be conducted with project team leaders, such as Principal Investigators (PIs) and Principal Directors (PDs), and case studies that will use a project team as the unit of analysis will be used to collect qualitatively rich discursive and observational information that cannot be collected within a web survey. Both follow-up interviews and case studies will be conducted virtually with the possibility of in-person interviews and non-participant observation to be held in the future.

NSF/EAC will only submit a collection for approval under this generic clearance if it meets the following conditions:

○ The collection is voluntary;

○ The collection has a reasonably low burden for respondents (based on considerations of total burden hours, total number of respondents, or burden-hours per respondent) and is low-cost for the Federal government;

○ The collection is non-controversial and does not raise issues of concern for other Federal agencies;

○ The collection is targeted to the solicitation of opinions from respondents who have applied to the CA program (including those that have submitted successful grant applications and subsequently received funding);

○ Personally identifiable information (PII) is collected only to the extent necessary; and

○ Information gathered will be used for the dual and interrelated purposes of disseminating information about the CA program and using this information to make programmatic improvements, efficiencies, and enhanced program monitoring for the CA.

Feedback collected under this generic clearance provides useful information for the continued evolution of the CA program, but it may not yield data that can be generalized to the overall population in all instances. Our qualitative data collection activities—follow-up interviews and case studies—are designed to investigate outlier CA teams or CA teams that demonstrate exceptional performance or successfully overcome significant challenges in their work with the CA. While the web surveys, which will be deployed at different times during the program, will collect data that will help the EAC monitor trends over time and assess overall program performance, the follow-up interviews and case studies will gather supplemental data that is more specific to individual CA teams.

As a general matter, this information collection will not include questions of a sensitive nature, such as sexual behavior and attitudes, religious beliefs, and other matters that are commonly considered private.

Below we provide NSF's projected average estimates for the next three years:

Affected Public: Individuals and households, Businesses and other for-profit organizations, Not-for-profit institutions, Federal government.

Average Expected Annual Number of Activities: 10.

Respondents: 300 per activity.

Annual Responses: 3,000.

Frequency of Response: Once per request.

Average Minutes per Response: 75.

Burden Hours: 1,400.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: January 6, 2022.
Suzanne H. Plimpton,
Reports Clearance Officer, National Science Foundation.

[FR Doc. 2022-00336 Filed 1-10-22; 8:45 am]

BILLING CODE 7555-01-P